DEPARTMENT OF COMMERCE

International Trade Administration

A-570-848

Freshwater Crawfish Tail Meat from the People's Republic of China: Initiation of New Shipper Antidumping Duty Reviews

AGENCY: Import Administration, International Trade Administration, Department of Commerce.

SUMMARY: In March 2005, the Department of Commerce (“the Department”) received three requests to conduct new shipper reviews of the antidumping duty order on freshwater crawfish tail meat from the People's Republic of China (“PRC”). We have determined that each of these requests meet the statutory and regulatory requirements for the initiation of a new shipper review.

EFFECTIVE DATE: May 6, 2005.

FOR FURTHER INFORMATION CONTACT: Scot Fullerton at (202) 482-1386 or Kristina Boughton at (202) 482-8173; AD/CVD Operations, Office 9, Import Administration, International Trade Administration, U.S. Department of Commerce, 14th Street and Constitution Avenue, NW., Washington, DC 20230.

SUPPLEMENTARY INFORMATION:

Background

The Department received timely requests from Shanghai Sunbeauty Trading Co., Ltd., (“Shanghai Sunbeauty”) (March 18, 2005), Jiangsu Jiushoutang Organisms-Manufactures Co., Ltd., (“Jiangsu JOM”) (March 18, 2005), and Qingdao Wentai Trading Co., Ltd., (“Qingdao Wentai”) (March 21, 2005) in accordance with 19 CFR 351.214 (c), for new shipper reviews of the antidumping duty order on freshwater crawfish tail meat from the PRC, which has a March semiannual anniversary month. Jiangsu JOM identified itself as the producer and exporter of freshwater crawfish tail meat. Shanghai Sunbeauty identified itself as the exporter and Wuwei Xinhua Food Co., Ltd., (“Wuwei Xinhua”) as the producer of subject merchandise. Qingdao Wentai identified itself as the exporter and Nanxian Shunxiang Aquatic Food Products Co., Ltd., as the producer of subject merchandise. As required by 19 CFR 351.214(b)(2)(i), and (iii)(A), Shanghai Sunbeauty, Jiangsu JOM, and Qingdao Wentai certified that they did not export freshwater crawfish tail meat to the United States during the period of investigation (“POI”), and that each company has never been affiliated with any exporter or producer which exported freshwater crawfish tail meat to the United States during the POI. Furthermore, Shanghai Sunbeauty, Jiangsu JOM, and Qingdao Wentai have also certified that their export activities are not controlled by the central government of the PRC, satisfying the requirements of 19 CFR 351.214(b)(2)(iii)(B). Pursuant to 19 CFR 351.214(b)(2)(iv), Shanghai Sunbeauty, Jiangsu JOM, and Qingdao Wentai submitted documentation establishing the date on which the subject merchandise was first entered for consumption in the United States, the volume of that first shipment and any subsequent shipments, and the date of the first sale to an unaffiliated customer in the United States. The Department conducted Customs database queries to confirm that each company's shipment had officially entered the United States via assignment of an entry date in the Customs database by U.S. Customs and Border Protection (“CBP”).

Initiation of Reviews

In accordance with section 751(a)(2)(B) of the Tariff Act of 1930 (“the Act”), as amended, and 19 CFR 351.214(d)(1), and based on information on the record, we are initiating new shipper reviews for Shanghai Sunbeauty, Jiangsu JOM, and Qingdao Wentai. See Memoranda to the File through James C. Doyle, “New Shipper Initiation Checklist,” all dated April 29, 2005. We intend to issue the preliminary results of this review not later than 180 days after the date on which this review was initiated, and the final results of this review within 90 days after the date on which the preliminary results were issued.

Pursuant to 19 CFR 351.214(g)(1)(i)(B), the period of review (“POR”) for a new shipper review, initiated in the month immediately following the semiannual anniversary month, will be the six-month period immediately preceding the semiannual anniversary month. Therefore, the POR for the new shipper reviews of Shanghai Sunbeauty, Jiangsu JOM, and Qingdao Wentai will be September 1, 2004, through February 28, 2005.

It is the Department's usual practice in cases involving non-market economies to require that a company seeking to establish eligibility for an antidumping duty rate separate from the country-wide rate provide evidence of de jure and de facto absence of government control over the company's export activities. Accordingly, we will issue questionnaires to Shanghai Sunbeauty, Jiangsu JOM, and Qingdao Wentai, including a separate rates section. The reviews will proceed if the responses provide sufficient indication that Shanghai Sunbeauty, Jiangsu JOM, and Qingdao Wentai are not subject to either de jure or de facto government control with respect to their exports of freshwater crawfish tail meat. However, if the exporter does not demonstrate the company's eligibility for a separate rate, then the company will be deemed not separate from the PRC-wide entity, which exported during the POI and its new shipper review will be rescinded. See, 19 CFR 251.214(2)(iii)(A), see also Notice of Preliminary Results of Antidumping Duty New Shipper Review and Rescission of New Shipper Reviews: Freshwater Crawfish Tail Meat from the People's Republic of China, 69 FR 53669 (September 2, 2004) and Brake Rotors From the People's Republic of China: Rescission of Second New Shipper Review and Final Results and Partial Rescission of First Antidumping Duty Administrative Review, 64 FR 61581 (November 12, 1999). In accordance with section 751(a)(2)(B)(iii) of the Act and 19 CFR 351.214(e), we will instruct CBP to allow, at the option of the importer, the posting, until the completion of the review, of a single entry bond or security in lieu of a cash deposit for certain entries of the merchandise exported by either Shanghai Sunbeauty, Jiangsu JOM, or Qingdao Wentai. We will apply the bonding option under 19 CFR 351.107(b)(1)(i) only to entries from these three exporters for which the respective producers under review are the suppliers. Interested parties that need access to proprietary information in these new shipper reviews should submit applications for disclosure under administrative protective orders in accordance with 19 CFR 351.305 and 351.306. This initiation and notice are in accordance with section 751(a) of the Act (19 U.S.C. 1675(a)) and 19 CFR 351.214(d).

Dated: April 29, 2005.
Barbara E. Tillman,
Acting Deputy Assistant Secretary for Import Administration.

[FR Doc. E5-2214 Filed 5-5-05; 8:45 am]

BILLING CODE 3510-DS-S